DEPARTMENT OF AGRICULTURE

National Agricultural Statistics Service

Notice of Meeting of Expert Panel on Federal Statistics on Women and Beginning Farmers in U.S. Agriculture

AGENCY: National Agricultural Statistics Service, USDA.

ACTION: Notice of public meeting.

SUMMARY: The National Agricultural Statistics Service (NASS) announces a meeting of an Expert Panel on Federal Statistics on Women and Beginning Farmers in U.S. Agriculture.

DATES: The Panel meeting will be held from 9 a.m. to 5 p.m. on Thursday April 2 and from 9 a.m. to 5 p.m. Friday April 3, 2015. A public comment period will commence at 9:15 a.m. on April 2, 2015.

ADDRESSES: The Panel meeting will take place in U.S. Department of Agriculture, National Agricultural Statistics Service, 1400 Independence Avenue SW., Room 6309, South Building, Washington, DC 20250. Written comments may be filed before or up to two weeks after the meeting with the contact person identified herein at: U.S. Department of Agriculture, National Agricultural Statistics Service, 1400 Independence Avenue SW., Room 5029, South Building, Washington, DC 20250-2001.

FOR FURTHER INFORMATION CONTACT: Linda J. Young, Director, Research and Development Division, telephone 800-727-9540, Fax: 202-690-2090, or email: nass@nass.usda.gov. General information about NASS can also be found at http://www.nass.usda.gov/About_NASS/index.asp.

SUPPLEMENTARY INFORMATION: NASS will be convening a panel of subject matter experts covering a broad range of expertise and interests on April 2 and 3. During this meeting, the panel will consider statements provided by the public on data needs for women and beginning farmers and ranchers, discuss the currently available data on women and beginning farmers and ranchers, and consider additional stakeholder data needs in this area. The panel meeting is open to the public on Thursday April 2. The public is asked to preregister for the meeting at least 5 business days prior to the meeting. Your pre-registration must state the names of each person in your group, organization, or interest represented; the number of people planning to give oral comments, if any; and whether anyone in your group requires special accommodations. Submit registrations to nass@nass.usda.gov or USDA/NASS, 1400 Independence Avenue SW., Room 6035, South Building, Washington, DC 20250-2001. Members of the public who request to give oral comments to the Panel must arrive at the meeting site by 8:45 a.m. on Thursday April 2, 2015. Oral comments should each be limited to three minutes or less. Two hours have been allotted for public comments. Written comments by attendees or other interested stakeholders will be welcomed for the public record before and up to two weeks following the meeting. Comments should be limited to 500 words or less. The public may file written comments by mail to USDA/NASS, Room 6035, 1400 Independence Avenue SW., South Building, Washington, DC 20250-2001.

Written comments can also be sent via Fax: 202-690-2090, or email: to nass@nass.usda.gov. All comments and pre-registrations need to reference “Expert Panel on Federal Statistics on Women and Beginning Farmers in U.S. Agriculture.”

All statements will become a part of the official records of the Panel meeting and will be kept on file for public review in the office of the Director, Research and Development Division.

Signed at Washington, DC, March 12, 2015.
Joseph T. Reilly,
Administrator, National Agricultural Statistics Service.

[FR Doc. 2015-06181 Filed 3-17-15; 8:45 am]

BILLING CODE 3410-20-P